DEPARTMENT OF TRANSPORTATION

Federal Transit Administration

Discretionary Bus and Bus Facilities Program

AGENCY: Federal Transit Administration (FTA), DOT.

ACTION: Notice of Availability of FTA State of Good Repair Bus and Bus Facilities Initiative Funds: Solicitation of Project Proposals.

SUMMARY: The Federal Transit Administration (FTA) announces the availability of discretionary Section 5309 Bus and Bus Facilities grant funds in support of its “State of Good Repair” initiative. The State of Good Repair (SGR) Bus initiative will be funded with up to $775 million in unallocated Fiscal Year (FY) 2010 discretionary Bus and Bus Facilities Program funds, authorized by 49 USC 5309(b) of the Safe, Accountable, Flexible, Efficient, Transportation Equity Act: A Legacy For Users (SAFETEA-LU), Public Law 109-59, August 10, 2005. FTA may use additional Bus and Bus Facilities program funding that becomes available in the future to further support this initiative.

The SGR Bus initiative will make funds available to public transit providers to finance capital projects to replace, rehabilitate, and purchase buses and related equipment and to construct/rehabilitate bus-related facilities, including programs of bus and bus-related projects which may include assistance to subrecipients that are public agencies, private companies engaged in public transportation, or private non-profit organizations. This Notice includes priorities established by FTA for these discretionary funds, the criteria FTA will use to identify meritorious projects for funding, and describes how to apply.

This announcement is available on the FTA Web site at: http://www.fta.dot.gov. FTA will announce final selections on the Web site and in the Federal Register. A synopsis of this announcement will be posted in the FIND module of the government-wide electronic grants Web site at http://www.grants.gov.

DATES: Complete proposals for the SGR Bus initiative must be submitted by June 18, 2010. All proposals must be submitted electronically through the GRANTS.GOV APPLY function. In order to apply through GRANTS.GOV, proposers should initiate the process of registering on the GRANTS.GOV site immediately to ensure completion of registration before the deadline for submission. Proposers will receive two confirmation e-mails. The first email will confirm that the application was received and a subsequent e-mail will be sent indicating whether the application was validated or rejected by the system.

FOR FURTHER INFORMATION CONTACT: Contact the appropriate FTA Regional Administrator (see Appendix) for proposal-specific information and issues. For information on the SGR Bus initiative, contact Darren Jaffe, Office of Program Management, (202) 366-4008, e-mail: darren.jaffe@dot.gov. A TDD is available at 1-800-877-8339 (TDD/FIRS).

SUPPLEMENTARY INFORMATION:

Table of Contents

I. Funding Opportunity Description

II. Award Information

III. Eligibility Information

IV. Proposal Submission Information

V. Proposal Review, Selection, and Notification

VI. Award Administration

VII. Agency Contacts

Appendix FTA Regional Offices

I. Funding Opportunity Description

A. Authority

The bus and bus facilities program is authorized under 49 U.S.C. 5309(b), as amended by section 3011 of SAFETEA-LU:

“The Secretary may make grants under this section to assist State and local governmental authorities in financing capital projects * * * to replace, rehabilitate, and purchase buses and related equipment and to construct bus-related facilities, including programs of bus and bus-related projects for assistance to subrecipients that are public agencies, private companies engaged in public transportation, or private non-profit organizations.”

B. Background

Maintaining the nation's public transportation fleet, infrastructure, and equipment in a state of good repair is essential to providing reliable, high-quality, and safe transit services to the tens of millions of Americans who depend on it daily. Transit not only provides mobility options for the American public, but contributes to the livability of our nation's communities and to environmental and energy sustainability. However, given recent limitations in State and local resources and the need to meet projected growth in demand for transit service, many local transit agencies are finding it difficult to meet their basic re-investment needs. FTA's April 2009 Rail Modernization Study estimated a combined $50 billion repair and replacement backlog in the bus and rail systems of the seven oldest and largest U.S. transit agencies.

The state of repair of transit infrastructure is an important issue for both large and small systems across the country. According to the U.S. Department of Transportation's 2008 Status of the Nation's Highways, Bridges, and Transit Conditions and Performance Report to Congress, over 36 percent of urban bus maintenance facilities were estimated to be in marginal or poor condition in 2006, five percent higher than in 2004. This report also found that nearly 50 percent of the nation's bus facilities were over 20 years old and that 18 percent of the nation's bus fleet was in need of replacement. The average bus age and condition have stabilized recently and are even expected to improve due to the number of vehicles purchased recently with American Recovery and Reinvestment Act funds. Buses are relatively short-lived assets, however, and some 8,000 must be replaced each year.

Preliminary FTA research indicates that while most transit agencies employ maintenance management systems and have capital improvement plans, few possess asset management plans and systems that support prioritization of asset replacement, as practiced by most state highway agencies and other major public infrastructure managers. Indications are that potential improvements in investment efficiency from better asset management can considerably outweigh the cost of implementation.

Recognizing growing investment needs and the large backlog of transit assets needing repair or replacement, the FTA proposed a $2.9 billion Bus and Rail State of Good Repair formula program in the President's FY 2011 budget. In advance of the implementation of this program, this notice makes available up to $775 million in FY 2010 Section 5309 bus and bus discretionary program resources for a “State of Good Repair Bus” (SGR Bus) grant initiative.

C. Program Purpose

Improving and maintaining America's buses and bus facilities so that the nation's public transportation systems are in good physical condition and successfully accomplish their performance objectives is a key strategic goal of the DOT and FTA. The SGR Bus initiative is intended to contribute to the improvement of the condition of transit capital assets by providing financial assistance for recapitalization of buses and bus facilities. In addition, funding under this SGR Bus initiative may be used for the development and implementation of new, or improvement of existing, transit asset management systems. Transportation asset management is a strategic and systematic process of operating, maintaining, improving, and expanding physical assets effectively throughout their life cycle. Successful systems focus on good business and engineering policy, practices and procedures for resource allocation and utilization with the objective of better decision-making based upon quality information and well defined objectives.

II. Award Information

Federal transit funds are available to State or local governmental authorities as recipients and other public transportation providers as subrecipients. There is no floor or upper limit for any single grant under this program; however, FTA intends to fund as many meritorious projects as possible. In addition, FTA will take into consideration the geographic diversity of its award decisions.

Consistent with 49 U.S.C. 5309(m)(8), the Secretary shall consider the age and condition of buses, bus fleets, bus-related facilities and equipment of applicants in its award of State of Good Repair Bus grants.

III. Eligibility Information

A. Eligible Proposers

Eligible proposers and eventual grant applicants under this initiative are Direct Recipients under the Section 5307 Urbanized Area Formula program, States, and Indian Tribes. Proposals for funding eligible projects in rural (nonurbanized) areas must be submitted as part of a consolidated State proposal with the exception of nonurbanized projects to Indian Tribes. Tribes, States, and Direct Recipients may also submit consolidated proposals for projects in urbanized areas.

Proposals shall contain projects to be implemented by the Recipient or its subrecipients. Eligible subrecipients include public agencies, private non-profit organizations, and private providers engaged in public transportation.

B. Eligible Expenses

SAFETEA-LU grants authority to the Secretary to make grants to assist State and local governmental authorities in financing capital projects to replace, rehabilitate, and purchase buses and related equipment and to construct or rehabilitate bus-related facilities, including programs of bus and bus-related projects for assistance to subrecipients that are public agencies, private companies engaged in public transportation, or private non-profit organizations.

Projects eligible for funding under the SGR Bus initiative are capital projects such as: purchase, replacement, or rehabilitation of, buses and vans and related equipment (including Intelligent Transportation Systems (ITS), fare equipment, communication devices that are FCC mandatory narrow-banding compliant); replacement or the modernization of bus maintenance and revenue service (passenger) facilities; and the development and implementation of transit asset management systems, that address the objectives identified in the Program Purpose subsection above.

C. Cost Sharing

Costs will be shared at the following ratio: 80 percent FTA/20 percent local contribution, unless the grantee requests a lower Federal share. FTA will not approve deferred local share requests under this program.

The Federal share may exceed 80 percent for certain projects related to the Americans with Disabilities Act (ADA) and the Clean Air Act (CAA) as follows: ADA—The Federal share is 90 percent for the cost of vehicle-related equipment or facilities attributable to compliance with the ADA of 1990 (42 U.S.C. 12101 et seq); CAA—The Federal share is 90 percent for the cost of vehicle related equipment or facilities (including clean-fuel or alternative-fuel vehicle related equipment or facilities) attributable to compliance with the CAA (42 U.S.C. 7401 et seq). For administrative simplicity, FTA allows recipients to compute the Federal share at 83 percent for eligible ADA and CAA vehicle purchases.

The FY 2010 Appropriations Act allows a 90 percent Federal share for the total cost of a biodiesel bus. The Act also allows a 90 percent Federal share for the net capital cost of factory installed or retrofitted hybrid electric propulsion systems and any equipment related to such a system. For administrative simplicity, FTA allows recipients to compute the Federal share at 83 percent for eligible vehicle purchases.

IV. Proposal Submission Information

A. Proposal Submission Process

Project proposals must be submitted electronically through http://www.grants.gov. Mail and fax submissions will not be accepted except for supplemental information that cannot be sent electronically.

B. Proposal Content

1. Proposal Information

Proposals should provide basic sponsor identifying information, including:

a. Proposer's name and FTA recipient ID number.

b. Contact information for notification of project selection (including contact name, title, address, congressional district, email, fax and phone number).

c. A general description of services provided by the agency including ridership, fleet size, areas served, etc.

d. A description of the agency's technical, legal, and financial capacity to implement the proposed project. Some of this information is included in Standard Form 424 when applying through GRANTS.GOV.

2. Project Information

Every proposal must:

a. Describe concisely, but completely, the project scope to be funded. As FTA may elect to only partially fund some project proposals (see below), the scope should be “scalable” with specific components of independent utility clearly identified.

b. Address each of the evaluation criteria separately, demonstrating how the project responds to each criterion.

c. Provide a line-item budget for the total project, with enough detail to describe the various key components of the project. As FTA may elect to only partially fund some project proposals, the budget should provide for the minimum amount necessary to fund specific project components of independent utility.

d. Provide the Federal amount requested.

e. Document the matching funds, including amount and source of the match, demonstrating strong local or private sector financial participation in the project.

f. Provide support documentation, including audited financial statements, bond-ratings, and documents supporting the commitment of non-federal funding to the project, or a timeframe upon which those commitments would be made.

g. Provide a project time-line, including significant milestones such as the date anticipated to issue a request for proposals for vehicles, or contract for purchase of vehicle(s), and actual or expected delivery date of vehicles, or notice of request for proposal and notice to proceed for capital construction/rehabilitation projects.

C. Submission Dates and Times

Complete proposals for the State of Good Repair Bus initiative must be submitted June 18, 2010 electronically through the GRANTS.GOV Web site by the same date. Proposers are encouraged to begin the process of registration on the GRANTS.GOV site well in advance of the submission deadline. Registration is a multi-step process, which may take several weeks to complete before a proposal application can be submitted. FTA will announce project selections when the competitive selection process is complete. Successful proposers must then apply for a grant in FTA's Web-based grant system, TEAM, for the scope and amount approved.

D. Funding Restrictions

Only proposals from eligible recipients for eligible activities will be considered for funding (see Section III). Due to funding limitations, proposers that are selected for funding may receive less than the amount originally requested.

E. Other Submission Requirements

Proposers should submit three (3) copies of any supplemental information that cannot be submitted electronically to the appropriate regional office. Supplemental information submitted in hardcopy must be postmarked by June 18, 2010.

V. Proposal Review, Selection, and Notification

A. Project Evaluation Criteria

Projects will be evaluated by FTA based on the proposals submitted according to the following criteria. Each proposer is encouraged to demonstrate the responsiveness of a project to any and all of the selection criteria with the most relevant information that the proposer can provide, regardless of whether such information has been specifically requested, or identified, in this notice. FTA will assess the extent to which a project addresses the following criteria.

1. Planning and prioritization at the local/regional level:

a. Project is consistent with the transit priorities identified in the long range plan and/or contingency/illustrative projects. Proposer should note if project could not be included in the financially constrained Transportation Improvement Program (TIP)/Statewide Transportation Improvement Program (STIP) due to lack of funding (if selected, project must be in TIP before grant award).

b. Local support is demonstrated by availability of local match and letters of support for project.

c. In an area with more than one transit operator, the proposal demonstrates coordination with, and support of, other transit operators, or other related projects within the proposer's MPO or the geographic region within which the proposed project will operate.

2. The project is ready to implement:

a. Any required environmental work has been initiated for construction projects requiring an Environmental Assessment (EA) or Environmental Impact Statement (EIS).

b. Project implementation plans are complete, including initial design of facilities projects.

c. TIP/STIP can be amended (evidenced by MPO/State endorsement).

d. Project funds can be obligated and the project implemented quickly, if selected.

3. Technical, legal, and financial capacity to implement the particular project proposed:

a. The proposer has the technical capacity to administer the project.

b. There are no outstanding legal, technical, or financial issues with the grantee that would make this a high-risk project to implement quickly.

c. Source of local match is identified and is available for prompt project implementation if selected (no deferred local share will be allowed).

In addition, for each of the project types below, the following criteria will apply:

1. For bus projects:

a. The age of the asset to be replaced or rehabilitated by the proposed project, relative to its useful life.

b. The degree to which the proposed project addresses a demonstrated and verifiable backlog of deferred maintenance.

c. Consistency with the proposer's bus fleet management plan.

d. Condition and performance of the asset to be replaced by the proposed project, as ascertained through field inspections or otherwise, if available.

e. Demonstrated positive impact on air quality.

f. The degree to which the proposed project supports emerging or advanced technologies for transit buses.

g. The project conforms to FTA's spare ratio guidelines.

2. For bus facility and equipment projects:

a. The age of the asset to be rehabilitated or replaced relative to its useful life.

b. The degree to which proposed project addresses a demonstrated and verifiable backlog of deferred maintenance.

c. Supports emerging or advanced technologies for transit facilities and equipment.

d. For facilities, evidence of proposed project compliance with “Green Building” certification.

3. For transit asset management system projects:

If asset management system development or upgrades are proposed, the proposal shall describe, as applicable, the system element(s) the proposer is seeking to improve; including:

a. How asset management plans/systems will be developed or upgraded.

b. How asset inventories will be maintained physically and fiscally.

c. How assets initial condition will be assessed.

d. How assets will be inspected and monitored, and at what frequency.

e. How logistical decision support tools (including options and tradeoff analysis) will be used in the proposer's day-to-day operations.

f. Demonstrated long-term financial and management commitment of the proposer to using the asset management system.

B. Review and Selection Process

Proposals will be evaluated by the appropriate FTA regional office using the criteria above. The FTA Administrator will determine the final selection and amount of funding for each project. Selected projects will be announced in September 2010. FTA will publish the list of all selected projects and funding levels in the Federal Register. Regional offices will also notify successful proposers and the amount of funding to be awarded to the project.

VI. Award Administration

A. Award Notices

FTA will award grants for the selected projects to the proposer through the FTA electronic grants management and award system, TEAM, after receipt of a complete application in TEAM. These grants will be administered and managed by the FTA regional offices in accordance with the Federal requirements of the Section 5309 Bus program. At the time the project selections are announced, FTA will extend pre-award authority for the selected projects. There is no blanket pre-award authority for these projects before announcement.

B. Administrative and National Policy Requirements

1. Grant Requirements

If selected, applicants will apply for a grant through TEAM and adhere to the customary FTA grant requirements of the Section 5309 Bus and Bus Facilities program, including those of FTA C 9300.1B Circular and C 5010.1D and S. 5333(b) labor protections. Discretionary grants greater than $500,000 will be subject to the Congressional Notification and release process. Technical assistance regarding these requirements is available from each FTA regional office.

2. Planning

Applicants are encouraged to notify the appropriate State Departments of Transportation and MPO in areas likely to be served by the project funds made available under this program. Incorporation of funded projects in the long-range plans and transportation improvement programs of States and metropolitan areas is required of all funded projects.

3. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and affect the implementation of the project. The applicant agrees that the most recent Federal requirements will apply to the project, unless FTA issues a written determination otherwise. The applicant must submit the Certifications and Assurances before receiving a grant if it does not have current certifications on file.

C. Reporting

Post-award reporting requirements include submission of Financial Status Reports and Milestone Reports in TEAM on a quarterly basis for all projects. Documentation is required for payment. In addition, project sponsors receiving grants for asset management systems and innovative technologies may be required to report on the performance of these systems and technologies.

VII. Agency Contacts

Contact the appropriate FTA Regional Administrator (Appendix A) for proposal specific information and issues. For information on the SGR Bus and Bus Facilities Initiative, contact Darren Jaffe, Office of Program Management, (202) 366-4008, e-mail: darren.jaffe@dot.gov. A TDD is available at 1-800-877-8339 (TDD/FIRS).

Issued in Washington, DC this 29th day of April, 2010.
Peter Rogoff,
Administrator.

Appendix A—FTA Regional and Metropolitan Offices
Richard H. Doyle, Regional Administrator, Region 1-Boston, Kendall Square, 55 Broadway, Suite 920, Cambridge, MA 02142-1093, Tel. 617-494-2055 | Robert C. Patrick, Regional Administrator, Region 6-Ft. Worth, 819 Taylor Street, Room 8A36, Ft. Worth, TX 76102, Tel. 817-978-0550.
States served: Connecticut, Maine, Massachusetts, New Hampshire, Rhode Island, and Vermont | States served: Arkansas, Louisiana, Oklahoma, New Mexico and Texas.
Brigid Hynes-Cherin, Regional Administrator, Region 2-New York, One Bowling Green, Room 429, New York, NY 10004-1415, Tel. 212-668-2170 | Mokhtee Ahmad, Regional Administrator, Region 7-Kansas City, MO, 901 Locust Street, Room 404, Kansas City, MO 64106, Tel. 816-329-3920.
States served: New Jersey, New York | States served: Iowa, Kansas, Missouri, and Nebraska.
New York Metropolitan Office, Region 2-New York, One Bowling Green, Room 428, New York, NY 10004-1415, Tel. 212-668-2202.
Letitia Thompson, Regional Administrator, Region 3-Philadelphia, 1760 Market Street, Suite 500, Philadelphia, PA 19103-4124, Tel. 215-656-7100 | Terry Rosapep, Regional Administrator, Region 8-Denver, 12300 West Dakota Ave., Suite 310, Lakewood, CO 80228-2583, Tel. 720-963-3300.
States served: Delaware, Maryland, Pennsylvania, Virginia, West Virginia, and District of Columbia | States served: Colorado, Montana, North Dakota, South Dakota, Utah, and Wyoming.
Philadelphia Metropolitan Office, Region 3-Philadelphia, 1760 Market Street, Suite 500, Philadelphia, PA 19103-4124, Tel. 215-656-7070
Washington, D.C. Metropolitan Office, 1990 K Street, NW., Room 510, Washington, DC 20006, Tel. 202-219-3562
Yvette Taylor, Regional Administrator, Region 4-Atlanta, 230 Peachtree Street, NW., Suite 800, Atlanta, GA 30303, Tel. 404-865-5600 | Leslie T. Rogers, Regional Administrator, Region 9-San Francisco, 201 Mission Street, Room 1650, San Francisco, CA 94105-1926, Tel. 415-744-3133.
States served: Alabama, Florida, Georgia, Kentucky, Mississippi, North Carolina, Puerto Rico, South Carolina, Tennessee, and Virgin Islands | States served: American Samoa, Arizona, California, Guam, Hawaii, Nevada, and the Northern Mariana Islands.
| Los Angeles Metropolitan Office, Region 9-Los Angeles, 888 S. Figueroa Street, Suite 1850, Los Angeles, CA 90017-1850, Tel. 213-202-3952.
Marisol Simon, Regional Administrator, Region 5-Chicago, 200 West Adams Street, Suite 320, Chicago, IL 60606, Tel. 312-353-2789 | Rick Krochalis, Regional Administrator, Region 10-Seattle, Jackson Federal Building, 915 Second Avenue, Suite 3142, Seattle, WA 98174-1002, Tel. 206-220-7954.
States served: Illinois, Indiana, Michigan, Minnesota, Ohio, and Wisconsin | States served: Alaska, Idaho, Oregon, and Washington.
Chicago Metropolitan Office, Region 5-Chicago, 200 West Adams Street, Suite 320, Chicago, IL 60606, Tel. 312-353-2789

[FR Doc. 2010-10430 Filed 4-30-10; 11:15 am]

BILLING CODE P